DEPARTMENT OF HEALTH AND HUMAN SERVICES

Administration for Children and Families

State Median Income Estimate for a Four-Person Family: Notice of the Federal Fiscal Year (FFY) 2008 State Median Income Estimates for Use Under the Low Income Home Energy Assistance Program (LIHEAP), Administered by the U.S. Department of Health and Human Services (HHS), Administration for Children and Families, Office of Community Services, Division of Energy Assistance

AGENCY: Administration for Children and Families, Office of Community Services, Division of Energy Assistance, HHS.

ACTION: Notice of estimated State median income estimates for FFY 2008.

SUMMARY: This notice announces the estimated median income for four-person families in each State and the District of Columbia for FFY 2008 (October 1, 2007 to September 30, 2008). LIHEAP grantees may adopt the State median income estimates beginning with the date of publication in the Federal Register or at a later date as discussed below. This enables LIHEAP grantees to choose to implement this notice during the period between the heating and cooling seasons. However, by October 1, 2007, or the beginning of a grantee's fiscal year, whichever is later, LIHEAP grantees using State median income estimates must adjust their income eligibility criteria to be in accord with the FFY 2008 State median income estimates.

This listing of estimated State median incomes provides one of the maximum income criteria that LIHEAP grantees may use in determining a household's income eligibility for LIHEAP.

DATES: Effective Date: The estimates are effective at any time between the date of this publication and October 1, 2007, or until the beginning of a LIHEAP grantee's fiscal year, whichever is later.

FOR FURTHER INFORMATION CONTACT: Peter Edelman, Office of Community Services, Division of Energy Assistance, 5th Floor West, 370 L'Enfant Promenade, SW., Washington, DC 20447, Telephone: (202) 401-5292, E-Mail: peter.edelman@acf.hhs.gov.

SUPPLEMENTARY INFORMATION: Under the provisions of section 2603(11) of Title XXVI of the Omnibus Budget Reconciliation Act of 1981, Public Law (PL) 97-35, as amended, HHS announces the estimated median income of a four-person family for each State, the District of Columbia, and the United States for FFY 2008 (October 1, 2007, through September 30, 2008).

Section 2605(b)(2)(B)(ii) of the LIHEAP statute provides that 60 percent of the median income for each State, as annually established by the Secretary of the Department of Health and Human Services, is one of the income criteria that LIHEAP grantees may use in determining a household's eligibility for LIHEAP.

LIHEAP is authorized through the end of FFY 2008 by the Energy Policy Act of 2005, PL 109-58, enacted on August 8, 2005.

Estimates of the median income for a four-person family for each State and the District of Columbia for FFY 2008 are produced by the Census Bureau of the U.S. Department of Commerce, using the most recently available income data. In previous years, model-based estimates of the median income for a four-person family used the following data sources: (1) The Current Population Survey's Annual Social and Economic Supplement File; (2) the 2000 Decennial Census of Population; and (3) per capita personal income estimates, by State, from the Bureau of Economic Analysis (BEA) of the U.S. Department of Commerce.

In preparing State-level, four-person family median income estimates for FFY 2008, the Census Bureau revised its methodology. The Census Bureau chose to use direct estimates derived from the American Community Survey (ACS) instead of using the model-based estimates. Generally, this change decreased, on average, State median income estimates by about 0.8 percent compared to the model-based estimates.

There are two key advantages in using the ACS over the previous methodology. First, as the Federal Government's largest current household survey (approximately 3 million addresses per year), the ACS is able to produce State-level estimates with very low sampling errors. Second, since it is possible to obtain reliable State income estimates directly from the ACS (as opposed to the previous methodology that used a model based on several data sources), ACS estimates will be available on a more timely basis. For example, the ACS 2005 State median income estimates were released by the Census Bureau in August 2006.

Information about the ACS is available at http://www.census.gov/acs/www/. For further information on the ACS State median income estimates, contact the Housing and Household Economic Statistics Division, at the Census Bureau (301) 763-3243.

A State-by-State listing of median income and 60 percent of median income for a four-person family for FFY 2008 follows. The listing describes the method for adjusting median income for families of different sizes as specified in regulations applicable to LIHEAP, at 45 CFR 96.85(b), published in the Federal Register on March 3, 1988 at 53 FR 6824.

Dated: March 21, 2007.
Yolanda Butler,
Deputy Director, Office of Community Services.

Estimated State Median Income for a Four-Person Family, by State, Federal Fiscal Year (FFY) 2008 ¹
States | Estimated State median income for a four-person family ² | 60 percent of estimated State median income for a four-person family
Alabama | $53,690 | $32,214
Alaska | 76,560 | 45,936
Arizona | 61,102 | 36,661
Arkansas | 52,217 | 31,330
California | 70,712 | 42,427
Colorado | 70,300 | 42,180
Connecticut | 92,205 | 55,323
Delaware | 76,288 | 45,773
District of Columbia | 50,248 | 30,149
Florida | 62,269 | 37,361
Georgia | 64,427 | 38,656
Hawaii | 79,240 | 47,544
Idaho | 52,470 | 31,482
Illinois | 72,368 | 43,421
Indiana | 64,564 | 38,738
Iowa | 65,575 | 39,345
Kansas | 64,929 | 38,957
Kentucky | 54,992 | 32,995
Louisiana | 55,945 | 33,567
Maine | 64,806 | 38,884
Maryland | 89,608 | 53,765
Massachusetts | 85,420 | 51,252
Michigan | 71,542 | 42,925
Minnesota | 77,395 | 46,437
Mississippi | 47,726 | 28,636
Missouri | 63,847 | 38,308
Montana | 55,641 | 33,385
Nebraska | 64,800 | 38,880
Nevada | 61,777 | 37,066
New Hampshire | 81,522 | 48,913
New Jersey | 90,261 | 54,157
New Mexico | 48,223 | 28,934
New York | 72,170 | 43,302
North Carolina | 59,481 | 35,689
North Dakota | 59,926 | 35,956
Ohio | 66,734 | 40,040
Oklahoma | 53,138 | 31,883
Oregon | 61,945 | 37,167
Pennsylvania | 68,646 | 41,188
Rhode Island | 78,297 | 46,978
South Carolina | 57,932 | 34,759
South Dakota | 61,309 | 36,785
Tennessee | 56,874 | 34,124
Texas | 57,511 | 34,507
Utah | 57,999 | 34,799
Vermont | 71,382 | 42,829
Virginia | 77,430 | 46,458
Washington | 72,103 | 43,262
West Virginia | 52,292 | 31,375
Wisconsin | 71,064 | 42,638
Wyoming | 62,933 | 37,760
Note: FFY 2008 covers the period of October 1, 2007 through September 30, 2008. The estimated median income for a four-person family living in the United States is $67,019 for FFY 2008. The estimates are effective for the Low Income Home Energy Assistance Program (LIHEAP) at any time between the date of this publication and October 1, 2007, or by the beginning of a LIHEAP grantee's fiscal year, whichever is later.
¹ In accordance with 45 CFR 96.85, each State's estimated median income for a four-person family is multiplied by the following percentages to adjust for family size for LIHEAP: 52 percent for one person, 68 percent for two persons, 84 percent for three persons, 100 percent for four persons, 116 percent for five persons, and 132 percent for six persons. For each additional family member above six persons, add 3 percentage points to the percentage for a six-person family (132 percent), and multiply the new percentage by the State's estimated median income for a four-person family.
² Prepared by the Census Bureau from the 2005 American Community Survey. For further information, contact the Housing and Household Economic Statistics Division at the Census Bureau (301-763-3243).

[FR Doc. E7-5631 Filed 3-27-07; 8:45 am]

BILLING CODE 4184-01-P